DEPARTMENT OF JUSTICE

Bureau of Justice Assistance; Agency Information Collection Activities: Common Request

ACTION: Notice of information collection under review; survey of best practices for hiring and retention of female and minority law enforcement officers.

The Department of Justice, Office of Justice Programs, has submitted the following information collection request for review and clearance in accordance with the Paperwork Reduction Act of 1995. Office of Management and Budget approval is being sought for the information collection listed below. This proposed information collection was previously published in the Federal Register on February 28, 2000, allowing for a 60-day public comment period.

The purpose of this notice is to allow an additional 30 days for public comment until June 7, 2000. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, Suite 1220, 1331 Pennsylvania NW, Washington, DC 20530.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Extension of a currently approved collection.

(2) The title of the form/collection: Survey of Best Practices for Hiring and Retention of Female and Minority Law Enforcement Officers.

(3) The agency form number, if any, and the applicable component of the Department sponsoring the collection: Bureau of Justice Assistance, United States Department of Justice.

(4) Affected public who will be asked or required to respond, as well as a brief abstract: Primary: Local Law Enforcement Agencies. 42 USC 3760 [Sec.510.] Purposes (a)(4) providing financial assistance to public agencies and private nonprofit organizations for demonstration programs, which, in view of previous research or experience, are likely to be a success in more than one jurisdiction.

(5) An estimate of the total number of respondents and the amount of time estimated for an average respondent to respond/reply: It is estimated that 800 respondents will complete a 35 minute nomination form.

(6) An estimate of the total public burden (in hours) associated with the collection: The total hour burden to complete the nominations is 400 annual burden hours.

If additional information is required contact: Mrs. Brenda E. Dyer, Deputy Clearance Officer, United States Department of Justice, Information Management and Security Staff, Justice Management Division, Suite 1220, National Place, 1331 Pennsylvania Avenue NW, Washington, DC 20530.

Dated: April 28, 2000.
Brenda E. Dyer,
Department Deputy Clearance Officer, United States Department of Justice.

[FR Doc. 00-11342 Filed 5-5-00; 8:45 am]

BILLING CODE 4410-18-M